DEPARTMENT OF JUSTICE

Notice of Lodging of Proposed Consent Decree Under the Clean Air Act (“CAA”)

On March 28, 2013, the Department of Justice lodged a proposed Consent Decree (“Decree”) with the United States District Court for the Eastern District of Virginia in the lawsuit entitled United States and Commonwealth of Virginia v. Honeywell Resins & Chemicals LLC, Civil Action No. 3:13CV193.

In this action the United States and the Commonwealth of Virginia filed a complaint against Honeywell Resins & Chemicals LLC (“Honeywell” or “Defendant”) seeking injunctive relief and civil penalties under Section 113(b) of the Clean Air Act (“CAA” or “the Act”), 42 U.S.C. 7413(b) and Virginia State Air Pollution Control Law, Virginia Code § 10.1-1300 et seq., and attendant regulations, for the Defendant's alleged violations at the chemical manufacturing facility operated by Honeywell (“Honeywell Plant” or “Facility”) located in Hopewell, Virginia. The Defendant operated and/or continues to operate the Facility in violation of various provisions which include failing to meet certain emission limits and operating parameters and failing to comply with certain requirements for testing, monitoring, recordkeeping and reporting. The Consent Decree requires Honeywell to implement enhanced leak detection and repair protocols, conduct a third-party audit to address benzene waste emissions, and install pollution control equipment to control nitrogen oxide emissions from the Facility. The Decree also requires the Defendant to pay the sum of $1.5 million dollars cash, including interest, to the United States as a civil penalty and $1.5 million dollars cash, including interest, to the Commonwealth as a civil penalty.

The publication of this notice opens a period for public comment on the Decree. Comments should be addressed to the Assistant Attorney General, Environment and Natural Resources Division, and should refer to United States v. Honeywell Resins & Chemicals LLC, D.J. Ref. No. 90-5-2-1-09611. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the Consent Decree may be examined and downloaded at this Justice Department Web site: http://www.justice.gov/enrd/Consent_Decrees.htm. We will provide a paper copy of the Consent Decree upon written request and payment of reproduction costs. Please mail your request and payment to:

Consent Decree Library, U.S. DOJ-ENRD, P.O. Box 7611, Washington, DC 20044-7611.

Please enclose a check or money order for $23.00 (25 cents per page reproduction cost) payable to the United States Treasury.

Robert Brook,
Assistant Section Chief, Environmental Enforcement Section, Environment and Natural Resources Division.

[FR Doc. 2013-07997 Filed 4-5-13; 8:45 am]

BILLING CODE P